ENVIRONMENTAL PROTECTION AGENCY

[EPA-HQ-OPP-2015-0849; FRL-9941-48]

Receipt of Application for Emergency Exemptions for Oxytetracycline and Streptomycin; Solicitation of Public Comment

AGENCY: Environmental Protection Agency (EPA).

ACTION: Notice.

SUMMARY: EPA has received a request from the Florida Department of Agriculture and Consumer Services for specific exemptions to use the pesticides oxytetracycline calcium (CAS No. 7179-50-2), oxytetracycline hydrochloride (CAS No. 2058-46-0), and streptomycin sulfate (CAS No. 3810-74-0) to treat up to 388,534 acres of citrus to control Candidatus Liberibacter asiaticus the bacteria which causes Huanglongbing (HLB), also referred to as citrus greening disease. Because the applicant proposes use of pesticides which are also used as human and animal antibiotic drugs, EPA is soliciting public comment before making decisions whether or not to grant the exemptions.

DATES: Comments must be received on or before February 11, 2016.

ADDRESSES: Submit your comments, identified by docket identification (ID) number EPA-HQ-OPP-2015-0849, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

Under section 18 of the Federal Insecticide, Fungicide, and Rodenticide Act (FIFRA) (7 U.S.C. 136p), at the discretion of the EPA Administrator, a Federal or State agency may be exempted from any provision of FIFRA if the EPA Administrator determines that emergency conditions exist which require the exemption. The Florida Department of Agriculture and Consumer Services has requested the EPA Administrator to issue specific exemptions for the uses of oxytetracycline calcium, oxytetracycline hydrochloride, and streptomycin sulfate on citrus to control Candidatus Liberibacter asiaticus, the bacteria which causes HLB, also referred to as citrus greening disease. Information in accordance with 40 CFR part 166 was submitted as part of the requests.

As part of the requests, the applicant states that Florida's citrus production will be seriously jeopardized if HLB cannot be adequately controlled. The disease has been known in China for more than 100 years, and is considered to be the most serious disease of citrus worldwide, affecting all citrus species and their hybrids. Since the discovery of HLB in Florida in 2005, it has rapidly spread to all 34 commercial production areas in the state, and the applicant claims that the severity of HLB far exceeds that of any previously known citrus disease. HLB causes decreases in fruit yield and quality, and infected trees decline and eventually die, even when producers incorporate all management options currently available. Thus far, efforts to control the disease have focused on removal of diseased trees, nutritional support, and rigorous efforts to control the Asian citrus psyllid (the vector of the HLB bacteria). However, research over the past several years on use of agricultural antimicrobial agents has shown promise for suppressing the disease and improving tree health. The applicant is now requesting use of three antimicrobials, oxytetracycline calcium, oxytetracycline hydrochloride, and streptomycin sulfate, and indicates that the recent research suggests that multiple bactericide applications will be necessary to improve tree health and suppress the effects of HLB disease year-long on infected citrus trees. The HLB disease has caused significant economic losses as well as losses of jobs related to citrus production. The applicant states that millions of trees have been lost in both commercial and residential citrus, and the long-term viability of Florida's citrus production is threatened if the disease cannot be effectively managed.

The proposed application method for all three materials is foliar spray using ground application equipment. The applicant proposes to make up to three applications of streptomycin sulfate at a rate of 0.45 lb. per acre on up to 388,534 acres of citrus, for a maximum use of 520,540 lbs. of streptomycin sulfate. The applicant also proposes up to eight applications of oxytetracycline calcium at a rate of 0.255 lb. per acre on up to 388,534 acres of citrus for a maximum of 762,309 lbs. Additionally, the applicant proposes up to three applications of oxytetracycline hydrochloride at a rate of 0.27 lb. per acre on up to 388,534 acres of citrus, for a maximum use of 314,712 lbs. Applications are proposed statewide in citrus production areas.

This notice does not constitute a decision by EPA on the application itself. The regulations governing FIFRA section 18 allow publication of a notice of receipt of an application for a specific exemption if the Administrator determines that publication of a notice of receipt is appropriate. The application proposes use of three pesticides which are also used as human and animal antibiotic drugs, and therefore this notice provides an opportunity for public comment on the application.

The Agency will review and consider all comments received during the comment period in determining whether to issue the specific exemptions requested by the Florida Department of Agriculture and Consumer Services.

Authority: 7 U.S.C. 136 et seq.

Dated: January 15, 2016.
Daniel J. Rosenblatt,
Acting Director, Registration Division, Office of Pesticide Programs.

[FR Doc. 2016-01659 Filed 1-26-16; 8:45 am]

BILLING CODE 6560-50-P